DEPARTMENT OF THE INTERIOR

National Park Service

[NPS-WASO-NRNHL-DTS#-34045; PPWOCRADI0, PCU00RP14.R50000]

National Register of Historic Places; Notification of Pending Nominations and Related Actions

AGENCY: National Park Service, Interior.

ACTION: Notice.

SUMMARY: The National Park Service is soliciting electronic comments on the significance of properties nominated before June 4, 2022, for listing or related actions in the National Register of Historic Places.

DATES: Comments should be submitted electronically by June 29, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before June 4, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

COLORADO

Larimer County

Vincent-Hatchette Cabin (Rocky Mountain National Park MPS), 1629 Bear Lake Rd., Estes Park vicinity, MP100007903

GEORGIA

Chatham County

Williams, Clarence and Louise Golden, House, 2211 Norwood Ave., Sandfly Community, Savannah, SG100007895

MICHIGAN

Oakland County

Bull, Elijah, House, 6115 Wing Lake Rd., Bloomfield Township, SG100007893

MISSOURI

Lafayette County

Forest Grove Cemetery, 892 Golf Rd., Lexington vicinity, SG100007905

MONTANA

Jefferson County

Beavertown Historic District, Address Restricted, Jefferson City vicinity, SG100007897

Sanders County

Thompson Falls Hydroelectric Dam Historic District (Boundary Increase and Decrease), (Thompson Falls MRA), US ALT 10 at Clark Fork River within NW part of Thompson Falls, Thompson Falls vicinity, BC100007902

NEW JERSEY

Passaic County

Belle Vista (Boundary Increase), 3 Valley Rd., Paterson, BC100007899

NEW YORK

Erie County

St. Paul's Roman Catholic Church Complex, 2930 Delaware Ave., 45 Victoria Blvd., Kenmore, SG100007890

Monroe Motor Car Company Building and the Main Garage Company Building, 1786-1796 Main St., 1040 Lafayette Ave., Buffalo, SG100007891

OHIO

Cuyahoga County

Audubon School, 3055 Martin Luther King Jr. Dr., Cleveland, SG100007904

McKinley School, 3349 W 125th St., Cleveland, SG100007907

TENNESSEE

Dickson County

Montgomery Bell CCC Camp SP-5/NP-15, 1020 Jackson Hill Rd., Burns, SG100007906

Additional documentation has been received for the following resources:

ARIZONA

Yavapai County

East Prescott Historic District (Additional Documentation), (Prescott Territorial Buildings MRA), 512 East Willis St., Prescott, AD89000165

MAINE

York County

Kennebunk Historic District (Additional Documentation), Vicinity of Summer, Maine, Portland, Fletcher, and Dane St., Kennebunk, AD74000324

MONTANA

Sanders County

Thompson Falls Hydroelectric Dam Historic District (Additional Documentation) (Thompson Falls MRA), US ALT 10 at Clark Fork River within NW part of Thompson Falls, Thompson Falls vicinity, AD86002756

NEW JERSEY

Passaic County

Belle Vista (Additional Documentation), 3 Valley Rd., Paterson, AD76001180

Nominations submitted by Federal Preservation Officers:

The State Historic Preservation Officer reviewed the following nominations and responded to the Federal Preservation Officer within 45 days of receipt of the nominations and supports listing the properties in the National Register of Historic Places.

ALABAMA

Baldwin County

C.S.S. HUNTSVILLE and C.S.S. TUSCALOOSA Historic and Archaeological District, Address Restricted, Mobile vicinity, SG100007894

CALIFORNIA

Santa Barbara County

Santa Rosa Island Archeological District, Address Restricted, Santa Rosa Island vicinity, SG100007896

NEW YORK

Albany County

Albany VA Main Hospital Building, (United States Third Generation Veterans Hospitals, 1946-1958 MPS), 113 Holland Ave., Albany, MP100007908

Westchester County

Franklin Delano Roosevelt Veterans Hospital Historic District, (United States Third Generation Veterans Hospitals, 1946-1958 MPS), 2094 Albany Post Rd., Montrose, MP100007887

(Authority: Section 60.13 of 36 CFR part 60)

Dated: June 7, 2022.
Sherry A. Frear,
Chief, National Register of Historic Places/National Historic Landmarks Program.

[FR Doc. 2022-12789 Filed 6-13-22; 8:45 am]

BILLING CODE 4312-52-P